DEPARTMENT OF THE INTERIOR

National Park Service

[NPS-NERO-GATE-17297; PPNEGATEB0, PPMVSCS1Z.Y00000]

Notice of Meeting for Gateway National Recreation Area Fort Hancock 21st Century Advisory Committee

AGENCY: National Park Service, Interior.

ACTION: Notice of meeting.

SUMMARY: In accordance with the Federal Advisory Committee Act (5 U.S.C. Appendix 1-16), notice is hereby given of the next meeting of the Gateway National Recreation Area Fort Hancock 21st Century Advisory Committee. This meeting will take place on Friday, February 20, 2015, beginning at 9 a.m. (Eastern).

ADDRESSES: This meeting will take place at the Chapel at Sandy Hook, Hartshorne Drive, Middletown, NJ.

Agenda: The Committee will review communication efforts for three Requests for Proposal, released December 12, 2014, and open through April 17, 2015. The final agenda will be posted on www.forthancock21stcentury.org prior to the meeting.

FOR FURTHER INFORMATION CONTACT: Further information concerning the meeting may be obtained by mail from John Warren, External Affairs Officer, Gateway National Recreation Area, 26 Hudson Road, Highlands, NJ 07732, or by calling (732) 872-5908, or via email at forthancock21stcentury@yahoo.com, or by visiting the committee Web site at http://www.forthancock21stcentury.org.

SUPPLEMENTARY INFORMATION: As provided under section 10(a)(2) of the Federal Advisory Committee Act (5 U.S.C. Appendix 1-16), the purpose of the Committee is to provide advice to the Secretary of the Interior, through the Director of the National Park Service, on the development of a reuse plan and on matters relating to future uses of certain buildings within the Fort Hancock Historic Landmark District, within the Sandy Hook Unit of Gateway National Recreation Area.

Meetings are open to the public. Interested members of the public may present, either orally or through written comments, opinions or information for the Committee to consider during the public meeting. Attendees and those wishing to provide comment are strongly encouraged to preregister through the contact information provided. The public will be able to comment at the meetings from 1 p.m. to 1:45 p.m. Written comments will be accepted prior to, during or after the meeting. Due to time constraints during the meeting, the Committee is not able to read written public comments submitted into the record. Individuals or groups requesting to make oral comments at the public committee meeting will be limited to no more than five minutes per speaker.

Before including your address, telephone number, email address, or other personal identifying information in your written comments, you should be aware that your entire comment—including your personal identifying information—may be made publicly available at any time. While you may ask us in your comment to withhold your personal identifying information from public review, we cannot guarantee that we will be able to do so. All comments will be made part of the public record and will be electronically distributed to all Committee members.

Dated: January 9, 2015.
Alma Ripps,
Chief, Office of Policy.

[FR Doc. 2015-00670 Filed 1-15-15; 8:45 am]

BILLING CODE 4310-EE-P